ENVIRONMENTAL PROTECTION AGENCY

40 CFR Parts 52 and 81

[IN 119-1b; FRL-6601-6]

Approval and Promulgation of Implementation Plans and Designation of Areas for Air Quality Planing Purposes; Indiana

AGENCY: Environmental Protection Agency (EPA).

ACTION: Proposed rule.

SUMMARY: EPA is proposing to approve a request submitted by the State of Indiana to redesignate Marion County, Indiana as attainment for lead (Pb). Indiana submitted this request on March 2, 2000. EPA is also proposing to approve the lead maintenance plan for Marion County. This plan is designed to ensure maintenance of the lead National Ambient Air Quality Standards (NAAQS) for at least 10 years.

DATES: EPA must receive written comments on this proposed rule by June 9, 2000.

ADDRESSES: Written comments may be mailed to J. Elmer Bortzer, Chief, Regulation Development Section, Air Program Branch (AR-18J), Region 5, at the address listed below.

Copies of the materials submitted by Indiana may be examined during normal business hours at the following location: Regulation Development Section, Air Programs Branch (AR-18J), U.S. Environmental Protection Agency, 77 West Jackson Boulevard, Chicago, Illinois 60604.

FOR FURTHER INFORMATION CONTACT: Phuong Nguyen, Environmental Scientist, at (312) 886-6701.

SUPPLEMENTARY INFORMATION: Throughout this document whenever “we,” “us,” or “our” are used we mean EPA.

Table of Contents

I. What action is EPA taking today?

II. Where can I find more information about this proposal and the corresponding direct final rule?

I. What Action Is EPA Taking Today?

EPA is proposing to approve a lead redesignation request for Marion County, Indiana, which the State submitted on March 2, 2000. EPA is also proposing to approve the lead maintenance plan for Marion County, Indiana.

II. Where Can I Find More Information About This Proposal And The Corresponding Direct Final?

For additional information, see the direct final rule published in the rules section of this Federal Register.

Dated: April 20, 2000.
Francis X. Lyons,
Regional Administrator, Region 5.

[FR Doc. 00-11424 Filed 5-9-00; 8: 45 am]

BILLING CODE 6560-50-P